DEPARTMENT OF ENERGY

[OE Docket No. EA-389]

Application To Export Electric Energy; Great Bay Energy VI, LLC

AGENCY: Office of Electricity Delivery and Energy Reliability, DOE.

ACTION: Notice of Application.

SUMMARY: Great Bay Energy VI, LLC (GBE VI) has applied for authority to transmit electric energy from the United States to Canada pursuant to section 202(e) of the Federal Power Act (FPA).

DATES: Comments, protests, or motions to intervene must be submitted on or before February 13, 2014.

ADDRESSES: Comments, protests, or motions to intervene should be addressed to: Michael Rodrigue, Office of Electricity Delivery and Energy Reliability, Mail Code: OE-20, U.S. Department of Energy, 1000 Independence Avenue SW., Washington, DC 20585-0350. Because of delays in handling conventional mail, it is recommended that documents be transmitted by overnight mail, by electronic mail to Michael.Rodrigue@hq.doe.gov, or by facsimile to 202-586-8008.

FOR FURTHER INFORMATION CONTACT: Michael Rodrigue (Program Office) at 202-586-2942, or by email at Michael.Rodrigue@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On December 19, 2013, DOE received an application from GBE VI for authority to transmit electric energy as a power marketer from the United States to Canada for five years using existing international transmission facilities. GBE VI states that neither it, nor its corporate affiliates, owns any electric transmission facilities or holds a franchised service area.

The electric energy that GBE VI proposes to export to Canada will be surplus energy, meaning it will be purchased from electric utilities and other entities within the United States and will be surplus to the system of the generator. GBE IV states that the existing international transmission facilities that it proposes to utilize have been authorized by Presidential permits issued pursuant to Executive Order 10485, as amended, and are appropriate for open access transmission by third parties. GBE VI states that it will make all necessary commercial arrangements and will obtain all regulatory approvals required to schedule and deliver the proposed exports, including scheduling its transactions with the appropriate balancing authority areas in compliance with the reliability criteria standards and guidelines established by the North American Reliability Corporation (NERC) and NERC's member regional councils.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments on the GBE VI application to export electric energy to Canada should be clearly marked with OE Docket No. EA-389. An additional copy is to be provided directly to Ruta Kalvaitis Skucas, Pierce Atwood LLP, 900 17th St. NW., Suite 350, Washington, DC 20006 and Eric Sanchez, Controller, Great Bay Energy, LLC, AM Tower 9th Floor, 207 Calle del Parque, San Juan, PR 00912. A final decision will be made on this application after the environmental impacts have been evaluated pursuant to DOE's National Environmental Policy Act Implementing Procedures (10 CFR Part 1021) and after a determination is made by DOE that the proposed action will not have an adverse impact on the sufficiency of supply or reliability of the U.S. electric power supply system.

Copies of this application will be made available, upon request, for public inspection and copying at the address provided above, by accessing the program Web site at http://energy.gov/node/11845, or by emailing Angela Troy at Angela.Troy@hq.doe.gov.

Issued in Washington, DC, on January 8, 2014.
Brian Mills,
Director, Permitting and Siting Office of Electricity Delivery and Energy Reliability.

[FR Doc. 2014-00511 Filed 1-13-14; 8:45 am]

BILLING CODE 6450-01-P